DEPARTMENT OF STATE

[Public Notice: 11305]

In the Matter of the Designation of Harakat Sawa'd Misr (and Other Aliases) as a Foreign Terrorist Organization

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Harakat Sawa'd Misr, also known as Harakah Sawa'id Misr, also known as Harikat Souaid Misr, also known as HASM, also known as HASM Movement, also known as Hassam Movement, also known as Arms of Egypt Movement, also known as Movement of Egypt's Arms, also known as Movement of Egypt's Forearms, also known as Hassm, also known as Hamms, also known as Hassam, also known as Hasam.

Therefore, I hereby designate the aforementioned organization and its aliases as a foreign terrorist organization pursuant to section 219 of the INA.

This determination shall be published in the Federal Register.

Dated: December 22, 2020.
Michael R. Pompeo,
Secretary of State.

[FR Doc. 2021-00608 Filed 1-13-21; 8:45 am]

BILLING CODE 4710-AD-P